DEPARTMENT OF EDUCATION

Submission for OMB Review; Comment Request

AGENCY: Department of Education.

SUMMARY: The IC Clearance Official, Regulatory Information Management Services, Office of Management invites comments on the submission for OMB review as required by the Paperwork Reduction Act of 1995.

DATES: Interested persons are invited to submit comments on or before July 9, 2007.

ADDRESSES: Written comments should be addressed to the Office of Information and Regulatory Affairs, Attention: Education Desk Officer, Office of Management and Budget, 725 17th Street, NW., Room 10222, Washington, DC 20503. Commenters are encouraged to submit responses electronically by e-mail to oira_submission@omb.eop.gov or via fax to (202) 395-6974. Commenters should include the following subject line in their response “Comment: [insert OMB number], [insert abbreviated collection name, e.g., “Upward Bound Evaluation”]. Persons submitting comments electronically should not submit paper copies.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: June 1, 2007.
Angela C. Arrington,
IC Clearance Official, Regulatory Information Management Services, Office of Management.

Office of Planning, Evaluation and Policy Development

Type of Review: Revision.

Title: Child Care Survey of Postsecondary Institutions.

Frequency: One time.

Affected Public: Not-for-profit institutions.

Reporting and Recordkeeping Hour Burden:

Responses: 558.

Burden Hours: 517.

Abstract: Low-income students with children have the highest risk for failing to complete a four-year college degree. To increase the students' persistence in and graduation from college, the U.S. Department of Education's (the Department's) Child Care Access Means Parents in School (CCAMPIS) program provides grants to postsecondary institutions so that they can offer child care support tailored to the needs of specific student populations and local communities. The Department contracted with Mathematica Policy Research, Inc. (MPR) to evaluate the CCAMPIS program. The evaluation includes a comprehensive literature review, a survey of postsecondary institutions (“Child Care Survey”), a secondary data analysis, and the design of a student survey.

The Child Care Survey is a web-based survey of approximately 350 CCAMPIS grantee institutions funded in 2001 or 2002 and 350 matched, non grantee institutions. The sample consists of Title IV, degree-granting institutions offering at least $350,000 in Pell Grant support in the 2000 or 2001 fiscal year. All institutions in the sample offer child care services to postsecondary students. The survey is being conducted in two phases. Phase I, a pilot with 10 percent of the sample, was completed in spring 2007. After the instrument is modified, Phase II will be conducted in fall 2007 with the remaining 90 percent of the sample.

The Child Care Survey will provide a comprehensive picture of how grantees assist low-income students with child care. It will indicate whether and the extent to which grantees are better able than non grantees to provide critical child care services to low-income students. It will also examine child care directors' professional views on whether these services improve postsecondary persistence and graduation for low-income students.

The data will be useful in several ways. Policymakers will be able to use the information in deciding how to fund child care services at postsecondary institutions. Postsecondary institutions may be encouraged to offer more child care services for low-income students. The data will also support additional research on child care services by others interested in improving persistence in and graduation from postsecondary institutions among low-income students with young children. Restricted-use data files from the study-submitted to the Department and disseminated accordingly-can be used for independent studies by researchers and the policy community.

Requests for copies of the information collection submission for OMB review may be accessed from http://edicsweb.ed.gov, by selecting the “Browse Pending Collections” link and by clicking on link number 3371. When you access the information collection, click on “Download Attachments “ to view. Written requests for information should be addressed to U.S. Department of Education, 400 Maryland Avenue, SW, Potomac Center, 9th Floor, Washington, DC 20202-4700. Requests may also be electronically mailed to ICDocketMgr@ed.gov or faxed to 202-245-6623. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E7-11063 Filed 6-7-07; 8:45 am]

BILLING CODE 4000-01-P